DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: American Fisheries Act: Vessel and Processor Permit Applications.

OMB Control Number: 0648-0393.

Form Number(s): None.

Type of Request: Regular submission.

Burden Hours: 157.

Number of Respondents: 44.

Average Hours Per Response: Application for permit for replacement vessel, 30 minutes; application for inshore catcher vessel cooperative permit, 2 hours; and application for contract fishing by non-cooperative vessels, 4 hours.

Needs and Uses: Under the authority of the Magnuson-Stevens Fishery Conservation and Management Act (16 U.S.C. 1801 et seq.) National Marine Fisheries Service (NMFS) manages the groundfish fisheries in the exclusive economic zone (EEZ) off Alaska through fishery management plans. The regulations that implement those fishery management plans appear at 50 CFR part 679. The American Fisheries Act (AFA), 16 U.S.C. 1851 provided a new program for the Bering Sea and Aleutian Islands (BSAI) Management Area pollock fishery. In response to the AFA, NMFS developed a management program for BSAI pollock to include a set of permits for AFA catcher/processors, AFA catcher vessels, AFA inshore processors, AFA motherships, and AFA cooperatives. Vessels and processors in the BSAI pollock fishery are required to have valid AFA permits on board the vessel or at the processing plant, in addition to any other Federal or State permits. With the exceptions of the inshore vessel cooperatives, replacement vessel, and inshore vessel contract fishing applications, the AFA permit program had a one-time application deadline of December 1, 2000.

Affected Public: Business or other for-profit organizations; individuals or households.

Frequency: Annually and on occasion.

Respondent's Obligation: Required to obtain or retain benefit.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 27, 2009.
Gwellnar Banks,
Management Analyst, Office of the Chief Information Officer.

[FR Doc. E9-12606 Filed 5-29-09; 8:45 am]

BILLING CODE 3510-22-P